DEPARTMENT OF COMMERCE

National Oceanic and Atmospheric Administration

RIN 0648-XG020

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council's (Council) will hold a meeting.

DATES: The meeting will be held on Tuesday, March 13, 2018, from 1 p.m. through 5:30 p.m. and on Wednesday, March 14, 2018, from 8:30 a.m. to 12:30 p.m. See SUPPLEMENTARY INFORMATION for agenda details.

ADDRESSES: The meeting will take place at the Royal Sonesta Harbor Court Baltimore, 550 Light Street, Baltimore, MD 21202; telephone: (410) 234-0550.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make multi-year ABC recommendations for the blueline tilefish stock north of the VA/NC border based on updated stock assessment results and recommendations from the blueline tilefish Working Group. A review the most recent survey, fishery data, and the currently implemented 2019 ABC for golden tilefish will also be conducted. The SSC will also review and provide recommendations regarding the Northeast Fisheries Science Center clam dredge survey redesign, approve the OFL CV discussion document that would establish decision rules for specifying the CV of the OFL distribution, and review the most recent Mid-Atlantic State of the Ecosystem report. In addition, other topics the SSC may discuss include outcomes from the most recent National SSC meeting, SSC species and topic leads and any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Dated: February 9, 2018.
Tracey L. Thompson,
Acting Deputy Director, Office of Sustainable Fisheries, National Marine Fisheries Service.

[FR Doc. 2018-03016 Filed 2-13-18; 8:45 am]

BILLING CODE 3510-22-P